DEPARTMENT OF LABOR

Employment and Training Administration

[TA-W-55,933]

Artisan Software Tools Inc. Portland, OR; Notice of Termination of Investigation

Pursuant to Section 221 of the Trade Act of 1974, as amended, an investigation was initiated on November 4, 2004 in response to a worker petition filed by a company official on behalf of workers at Artisan Software Tools Inc., Portland, Oregon.

All workers were separated from the subject firm more than one year before the date of the petition. Section 223 (b) of the Act specifies that no certification may apply to any worker whose last separation occurred more than one year before the date of the petition. Consequently, further investigation in this case would serve no purpose, and the investigation has been terminated.

Signed at Washington, DC this 19th day of November 2004.
Richard Church,
Certifying Officer, Division of Trade Adjustment Assistance.

[FR Doc. E4-3517 Filed 12-6-04; 8:45 am]

BILLING CODE 4510-30-P